DEPARTMENT OF LABOR

Employment and Training Administration

[TA-W-41,889]

United Container Machinery, Inc., Glen Arm, MD; Notice of Revised Determination on Remand

The United States Court of International Trade (USCIT) granted the Department of Labor's request for voluntary remand of the negative determination on reconsideration in Former Employees of United Container Machinery, Inc. v. U.S. Secretary of Labor (Court No. 03-00346).

The Department's denial of Trade Adjustment Assistance (TAA) for the workers of United Container Machinery, Inc., Glen Arm, Maryland was issued on November 29, 2002, and was published in the Federal Register on December 23, 2002 (67 FR 78257). The investigation concluded that imports of products like or directly competitive with machinery for corrugated boxes produced at the subject company did not contribute importantly to the layoffs at the subject company during the relevant time period.

By letter dated January 1, 2003, the petitioner requested administrative reconsideration of the negative determination. The petitioner alleged that the subject worker group should be eligible for TAA because they were previously certified, that the subject company imported competitive products from Hungary, and that the subject company's customers may be importing. The Notice of Negative Determination Regarding Application for Reconsideration was issued on March 25, 2003, and was published in the Federal Register on April 7, 2003 (68 FR 16844). The request was denied because the information contained in the reconsideration request and the Department's follow-up inquiry concerning such information did not reveal a basis for further detailed investigation.

In response to the petitioner's appeal to the U.S. Court of International Trade, the Department requested, and was granted, a voluntary remand.

In the remand investigation, the Department requested from company officials information regarding the history of the subject company, company imports, details of the merger in which the subject company acquired the facility in Hungary, customer information, and clarification about alleged foreign affiliations.

The remand investigation revealed that the subject facility produced processed corrugated rolls. Corrugated rolls are large metal cylinders that are used to produce corrugated material. A paper matter is squeezed between pairs of corrugated rolls to make large flattened sheets used to make corrugated boxes.

There are two versions of processed corrugated rolls: smooth and fluted. The Glen Arm, Maryland facility produces both smooth and fluted processed corrugated rolls. The Hungary plant makes only smooth processed corrugated rolls. The smooth and fluted rolls function in the same way “ a paper product is squeezed between the rolls to make large sheets of flat board. The process of making the two versions is the same, except that fluted rolls include an extra step of ridging (scoring the smooth surface so that it makes ridges in the end product). Further, the two versions produce the same end product—the end paper product of the smooth rolls is a large sheet of smooth flat board; the end paper product of the fluted rolls is a large sheet of fluted flat board. Thus, the two versions are like and directly competitive.

In July 2002, Barry-Wehmiller Company purchased United Container Machinery, Inc. The purchase included the Glen Arm, Maryland facility and the facility in Hungary.

The rolls made in Hungary are shipped to European customers and to the Glen Arm, Maryland facility. The smooth corrugated rolls sent to the Glen Arm, Maryland facility either satisfy domestic smooth corrugated roll customers or are processed to make fluted materials. The further processing includes ridging the smooth corrugated rolls, polishing the rolls, and testing the modified final product.

A careful review of the additional information supplied by the company revealed that the Glen Arm, Maryland facility experienced production and employment declines and that imports of processed corrugated rolls from Hungary remained steady during the corresponding time period. Therefore, the Department concludes the subject company increased its reliance upon imported processed corrugated rolls during the relevant time period.

Conclusion

After careful review of the additional facts obtained on the current remand, I conclude that there was an increased reliance on imported processed corrugated rolls like or directly competitive with those produced at the subject firm, and that such increased reliance on imports contributed importantly to the worker separations and sales or production declines at the subject facility. In accordance with the provisions of the Trade Act, I make the following certification:

“All workers of United Container Machinery, Inc., Glen Arm, Maryland, who became totally or partially separated from employment on or after July 17, 2001, through two years from the issuance of this revised determination, are eligible to apply for adjustment assistance under Section 223 of the Trade Act of 1974.”

Signed at Washington, DC, this 6th day of January, 2004.
Linda G. Poole,
Certifying Officer, Division of Trade Adjustment Assistance.

[FR Doc. 04-651 Filed 1-12-04; 8:45 am]

BILLING CODE 4510-30-P